DEPARTMENT OF AGRICULTURE

Submission for OMB Review; Comment Request

September 28, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 1, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Endangered Species Regulations and Forfeiture Procedures.

OMB Control Number: 0579-0076.

Summary of Collection: The Endangered Species Act of 1973 (16 U.S.C. 1513 et seq.) directs Federal departments to utilize their authorities under the Act to conserve endangered and threatened species. Section 3 of the Act specifies that the Secretary of Agriculture is authorized to promulgate such regulations as may be appropriate to enforce the Act. The regulations contained in 7 CFR 355 are intended to carry out the provisions of the Endangered Species Act. USDA's Animal and Plant Health Inspection Service (APHIS), Plant Protection and Quarantine (PPQ) program is responsible for implementing these regulations. To enforce the regulations, APHIS will collect information using several forms and activities.

Need and Use of the Information: APHIS will use the following information activities to conserve endangered and threatened species of terrestrial plants: Applications for protected plant permit form PPQ 621, appeals of denial of general permit, marking and notification requirements, notices of arrival form PPQ 368, notices of exportation, validation of documents, waivers of forfeiture procedures by owners of seized property form PPQ 623, claim form PPQ 625, requests for return of property, petitions for remission or mitigation of forfeiture, reports form PPQ 626, and reporting and recordkeeping. Without the collected information, APHIS would not be able to carry out its responsibilities under The Endangered Species Act, and the United States would not be able to fulfill its responsibilities as a signatory to the Convention on International Trade in Endangered Species (CITES) Treaty. The consequences of either would directly impact the protection of endangered plant species around the world.

Description of Respondents: Business or other for-profit.

Number of Respondents: 1,097.

Frequency of Responses: Recordkeeping; Reporting: On occasion.

Total Burden Hours: 15.433.

Ruth Brown,
Departmental Information Collection Clearance Officer.

[FR Doc. 2021-21440 Filed 9-30-21; 8:45 am]

BILLING CODE 3410-24-P